DEPARTMENT OF HEALTH AND HUMAN SERVICES

Centers for Disease Control and Prevention

Urban Networks To Increase Thriving Youth Through Violence Prevention

Announcement Type: New.

Funding Opportunity Number: RFA 05042.

Catalog of Federal Domestic Assistance Number: 93.136.

Key Dates:

Letter of Intent Deadline: April 1, 2005.

Application Deadline: May 2, 2005.

I. Funding Opportunity Description

Authority: This program is authorized under Section 391(a) of the Public Health Service Act, 42 U.S.C. 280b(a).

Background: Youth violence is a pervasive and multi-sectoral problem. Homicide is one of the top four leading causes of death in every age group, from ages 1 to 34; it is the second and third leading cause of death among people ages 15-24 and 25-34, respectively.¹ Research indicates a number of factors can predispose children to a lifetime of violence and criminal activity, including poverty, substance abuse, poor parenting skills, placement outside the home, and improper peer interaction.² Exposure to violence is magnified for many youth in urban communities who have had encounters with shootings, stabbings, and other acts of violence by early adolescence.³ The disproportionate exposure to violence by urban youth often results in increased social problems such as anxiety and depression, pronounced grief, aggressive and delinquent behavior, a decrease in grade point average and social withdrawal.⁴

¹ National Center for Health Statistics, 2000, as printed in chart developed by NCIPC, in CDC Injury Factbook 2001-2002.

² Friday JC. The psychological impact of violence in underserved communities. J Health Care Poor Underserved. 1995; 6(4):403-9.

³ Newman BM, Lohman BJ, Newman PR, Myers MC, & Smith VL (2000). Experiences of urban youth navigating the transition to ninth grade. Youth and Society, 31(4), 387-416.

⁴ Rasmussen A, Aber MS, & Bhana A. (2004) Adolescent Coping and Neighborhood Violence: Perceptions, Exposure, and Urban Youths' Efforts to Deal With Danger. Am J of Community Psychology, Vol. 33.

Research indicates youth violence is not an intractable problem. Research and programs using public health methodologies is changing the emphasis on and commitment to youth violence. This approach derives from a tradition of collaboration among a broad spectrum of scientific disciplines to prevent the first occurrence of violence. The public health approach also highlights the potential utility of applying a variety of scientific tools (e.g., epidemiology, medicine and behavioral and social sciences) explicitly toward identifying effective prevention strategies.

The public health approach to youth violence prevention maximizes the opportunity to jointly define violence, clarifying barriers to cooperation, and outlining key actions to foster a multidisciplinary, collaborative approach to violence prevention. With this approach, U.S. cities, in which exposure to violence is magnified, can develop tools and frameworks that connect diverse groups with a common view of the issue and provide concrete methods for prevention.

Using the public health approach to reframe the issue of youth violence prevention is important to identify as needed resources, gain awareness from key stakeholders, and develop a common view of the issue. With a common vision, cities, their affiliated organizations and others can begin to collaborate within their fields (e.g. health, law, education) and respective networks. If cities and affiliates work together, resources may be directed and redirected toward effective, research based prevention strategies and programs. It emphasizes the need to disseminate scientifically validated studies and to provide resources and incentives for their implementation.

For the purposes of this program announcement the following definitions apply:

Change Agents: Leaders who mark a path for others to follow. Change agents may be inside an organization or come from an outside source. They play a key role in sustaining the momentum and direction of a youth violence prevention effort.

City: An incorporated municipality with a population greater than 400,000 in the United States with definite boundaries and legal powers set forth in a charter granted by the state.

Consortium: An agreement, combination, or group formed to undertake an enterprise beyond the resources of any one member.

Dissemination: The process of communicating information to specific audiences for the purpose of extending knowledge and with a view to adopting or modifying evidence-based programs, policies and practices. This can include providing access to information and telling a wider audience about a project and its results. Dissemination can occur through but is not limited to seminars, newsletters, press releases and similar methods.

Ecological Approach: The ecological model presented in the World Report on Violence and Health ⁵ identifies levels (individual, relationship, community and societal) of influence where strategies to address risk and protective factors can be detected.

⁵ Krug EG, Dahlberg LL, Mercy JA, Zwi AB, Lozano R, editors. World Report on Violence and Health. Geneva: World Health Organization; 2002.

Framing: The process by which person(s) or organization(s) communicate—using language and visuals—that signals the way receivers shape thoughts, create context or interpret and classify new information. Framing helps receivers of a message classify and attribute meaning to a topic, message or issue. The practice of framing is carried out most often in the media dictating the problem, context and responsibility for the issue.

Intervention: Services, policies and actions provided after violence perpetrated toward or among youth have occurred and may have the advantageous effect of preventing a re-occurrence of violence.

Prevention Campaign: The total planned, coordinated effort on behalf of the awardee to research, assess, develop, coordinate, and evaluate frame(s), tools, training, and products that lead to the adoption of evidence based youth violence prevention principles, practices, and concepts. This includes established goals, time parameters and performance measurements.

Primary Prevention: Population-based and/or environmental/system level strategies, policies and action that prevent violence from initially occurring. Prevention efforts work to modify and/or entirely eliminate the event, conditions, situations, or exposure to influences (risk factors) that result in the initiation of violence and associated injuries, disabilities and deaths. Additionally, prevention efforts seek to identify and enhance protective factors that may prevent violence, not only in at-risk populations but also in the community at large. Prevention efforts for violence perpetrated toward and among youth include activities that are aimed at addressing the individual, relationship, community and societal factors of potential perpetrators, bystanders and victims.

Public Health Approach: The public health approach has four basic steps:

1. Defining the problem: Collecting information and data about the problem.

2. Identifying risk and protective factors: Knowing those factors which place people at a greater potential risk for violence and recognizing which factors seem to protect them from violent behavior.

3. Developing and testing prevention strategies: Before implementing programs, it is important to first carefully design and evaluate interventions. While this may take more time and effort than other approaches, it is important to ensure that programs are safe, practical and ethical.

4. Ensuring widespread adoption: Strategies and action steps must be specifically defined for the needs of stakeholders. Interventions should be realistic, measurable and easy to replicate for sustainability.

Stakeholders: Includes everyone with a potential interest in youth violence prevention, practices, concepts and research.

Youth Violence: Youth violence involves persons between the ages of 10 and 24 who intentionally use physical force or power threatened or actual, against another person, or against a group or community, that either results in or has a high likelihood of resulting in injury, death, psychological harm, mal-development or deprivation.⁶

⁶ Krug EG, Dahlberg LL, Mercy JA, Zwi AB, Lozano R, editors. World Report on Violence and Health. Geneva: World Health Organization; 2002.

Purpose: The Centers for Disease Control and Prevention (CDC) announces the availability of fiscal year (FY) 2005 funds for a cooperative agreement to build capacity within U.S. cities to collaborate, plan, and implement youth violence prevention principles, practices, and concepts. This includes building a national consortium of key stakeholders representing the viewpoints of United States cities that can inform and support reframing the public discourse about youth violence prevention. This also includes developing tools, strategies, and messages to build infrastructure and a broad base of support for youth violence prevention and develop a national strategy to direct urban planning and action to prevent youth violence.

This program addresses the “Healthy People 2010” focus area of injury and violence prevention, as well as related goals in the CDC Futures Initiative:

• Health promotion and prevention of disease, injury and disability: All people, especially those at higher risk due to health disparities, will achieve their optimal lifespan with the best possible quality of health in every stage of life.

• Leadership for the nation's health system. CDC will assume greater leadership to strengthen the health impact of the state and local public health systems.

Measurable outcomes of the program will be in alignment with the following performance goal for the National Center for Injury Prevention and Control (NCIPC): to increase the capacity of injury prevention and control programs to address the prevention of injuries and violence.

Activities

Awardee activities are designed to integrate youth violence prevention practices and concepts into a national effort to address youth violence within U.S. cities and assist key stakeholders, policy leaders, and practitioners in adopting sustainable youth violence prevention efforts. It is anticipated that the project will be completed in two phases.

Phase I involves identifying key stakeholders, convening a consortium and developing a frame to build support for and address the prevention of youth violence within U.S. cities.

Phase II involves developing and disseminating a National Youth Violence Prevention Strategic Plan, utilizing the national frame and outlining specific steps for addressing youth violence prevention. These projects will use proven and potentially promising coalition building, framing, and public health advocacy and information dissemination methodologies to promote youth violence prevention. All program components shall foster cooperation, collaboration and communication between public and private organizations, government agencies, state and city health departments, NCIPC partners and grantees and others in their efforts to prevent youth violence and reduce violence-related injuries.

Phase I: Assessment and Framing

Awardee activities for this phase are as follows:

1. Establish a national youth violence prevention consortium.

a. Conduct a national assessment of organizations to determine key stakeholders for urban youth violence prevention efforts including those involved in youth violence prevention, youth development, violence prevention, public health, community development and other relevant groups. Examples may include but are not limited to the National League of Cities, National Association of City and County Health Officials, The Association of State and Territorial Health Officers, National Civic League, U.S. Conference of Mayors and the National Association of Cities.

2. Convene and coordinate the activities of the consortium.

At a minimum these activities should include the following:

a. The establishment of operating and administrative guidelines and principles (e.g. defining membership, by-laws, goals and objectives, etc)

b. A review of existing assessments and recommendations to address gaps in youth violence prevention within U.S. cities. The areas of assessment to be considered should include but are not limited to:

i. Evidence of level of commitment, interest and readiness at the city level to fully engage in efforts to prevent the perpetration of violence toward or among youth.

ii. Existing inventories of city programs that work directly or indirectly to prevent the perpetration of violence toward or among youth (at minimum, this should include the number of prevention programs, intended audience, content and resources devoted to the programs).

iii. Existing assessments of city and relevant national policies focused on preventing the perpetration of violence toward or among youth.

iv. Existing assessments of city and relevant national data sources that identify violent incidents perpetrated toward and among youth, including non-traditional data sources such as linked health-outcomes.

3. Prepare a report that summarizes the findings. This report should identify gaps, needs, and highlight recommendations from the consortium based on this review.

4. Develop a national frame for prevention of youth violence in U.S cities:

a. The frame should address environmental, relational, community and societal risk and protective factors for youth violence and assist in conveying that violence is a preventable public health issue.

b. The awardee should consult the youth violence prevention consortium and additional key stakeholders in youth violence prevention including national, state, and city leaders, professional organizations, public health officials and other relevant parties.

c. The frame should be established using proven framing methodologies and practices.

d. The frame should assure the delivery of credible, science-based information in understandable and effective formats consistent with the needs of key stakeholders and target audiences.

5. Develop a national youth violence prevention campaign that is a planned, coordinated effort on behalf of the awardee to research, assess, develop, coordinate, and evaluate frame(s), tools, training, and products that lead to the adoption of youth violence prevention principles, practices, and concepts.

a. The prevention campaign should build a broad base of support for youth violence prevention by creating tools, training and products that lead to the adoption of evidence based youth violence prevention principles, practices and concepts.

b. The prevention campaign should include a tool kit that highlights strategies and tactics for framing youth violence prevention. This should include research briefs, an explanation of the frame(s) with suggestions specific to each message or topic idea (i.e. messengers, metaphors, context, etc.), and applicable examples including demo press releases, publications and publicity ideas. The toolkit should have an evaluation to determine its usability and effectiveness in promoting the adoption of evidence based strategies.

c. Evaluate the frame and prevention campaign using assessments that measure the influence and within U.S. cities. Items should include but are not limited to:

i. Key stakeholders awareness of the youth violence prevention frame, messages, tools and strategies.

ii. City and stakeholder collaboration—Number of cities and affiliated groups using the youth violence prevention frame, messages, tools and strategies.

iii. Changes in youth violence programs, policies, and practices of cities and their affiliated organizations—How much and what kind of stimulus does the youth violence prevention frame, messages, tools and strategies have in influencing cities to plan and implement youth violence prevention programs, policies?

iv. Frequency and number of alternative activities generated by cities and their affiliated organizations to decrease risk factors and increase protective factors for youth violence prevention.

Phase II: Development and dissemination of a National Youth Violence Prevention Strategic Plan

Awardee activities for this phase are as follows:

1. Develop a National Youth Violence Prevention Strategic Plan. At a minimum this program should:

a. Specify steps and directions for cities to address youth violence prevention.

b. Include a logic model and time-line outlining implementation

c. Delineate priorities for addressing youth violence prevention with practical implications and immediate relevance for those working to advance evidence based youth violence prevention principles, practices, concepts and research.

d. Utilize the youth violence prevention campaign by providing effective frames for addressing youth violence prevention including methods and messages that engage cities throughout the nation.

e. Include communication processes to ensure effective dialog and consensus across and among the youth violence prevention stakeholders.

f. Adopt and outline sustainable strategies for cities to address youth violence prevention in alignment with ecological approach.

g. Include short-term, intermediate and long-term SMART (specific, measurable, attainable, realistic and time-phased) goals and objectives.

h. Reinforce and support previously established youth violence prevention infrastructures, such as the National Youth Violence Prevention Resource Center, including outlining partnerships that will enhance youth violence prevention efforts within U.S. cities.

i. Include an evaluation component that has outcome and impact measures assessing how much and what kind of stimulus the National Youth Violence Prevention Strategic Plan creates. Items should include but are not limited to:

i. Process evaluation for planning and implementation—Assessment of the planning process used to prepare the National Youth Violence Prevention Strategic Plan goals and the action plan and follow-through on National Youth Violence Prevention Strategic Plan activities.

ii. Leadership—Participation by key sectors representing U.S. cities and ascertaining the diversity of committee membership as well as assessment of cities' perceptions of the strength and competence of the National Youth Violence Prevention Strategic Plan's leadership.

iii. Progress and Outcome—Success in generating resources for youth violence prevention and progress in meeting the strategic plan's specific objectives.

2. Disseminate the National Youth Violence Prevention Strategic Plan

a. Dissemination should include strategies to implement evidence based youth violence prevention principles, practices and concepts, and build a broad base of support to effectively address youth violence prevention.

b. Work with key stakeholders and the National Youth Violence Prevention Resource Center to provide training and technical assistance in the areas of communication, advocacy and health education strategies (e.g., social marketing, health and risk communications and media relations) in the support of the strategic plan.

c. Network with private foundations, media, policy makers, public health entities and other organizations to identify, promote and distribute the national strategic plan for youth violence prevention.

d. Include promotional and educational materials, media strategies, outreach efforts and public relations strategies to disseminate the plan.

e. Include evaluation measures or tools to assess the extent to which the strategic plan has been implemented. The measures/tools should be of value to cities in collecting baseline and follow-up data on youth violence prevention programs, the dissemination of evidence based principles, practices, and concepts and youth violence related health impacts; and should include process and impact measures and quantitative and qualitative measures that monitor the implementation of proposed activities.

3. Collaborate with CDC and other partners on an ongoing basis.

4. Submit required reports to CDC as scheduled.

In a cooperative agreement, CDC staff is substantially involved in the program activities, above and beyond routine grant monitoring.

CDC Activities for this program are as follows:

• As appropriate, coordinate opportunities for funded applicants and partners to network with other NCIPC funded national organizations.

• Provide consultation and technical assistance in planning, implementing and evaluating activities. CDC may provide consultation both directly and indirectly through other partners.

• Provide up-to-date scientific information on youth violence surveillance, risk and protective factors and effective programs, as well as findings from formative research.

• Assist in the design and implementation of program evaluation activities.

• Facilitate the transfer of successful program models and “lessons learned” through convening meetings of grantees and communication between project officers.

• Monitor the recipient's performance of program activities and compliance with requirements.

• Involve the recipient in other NCIPC related youth violence prevention activities and efforts.

II. Award Information

Type of Award: Cooperative Agreement. CDC involvement in this program is listed in the Activities Section above.

Fiscal Year Funds: 2005.

Approximate Total Funding: $300,000 (** Awards in Yrs. 3-5 funding levels may increase to up to $500,000 for related activities).

Approximate Number of Awards: One.

Approximate Average Award: $300,000 (This amount is for the first 12-month budget period, and includes both direct and indirect costs.)

Floor of Award Range: $250,000.

Ceiling of Award Range: $300,000 (This ceiling is for the first 12-month budget period.)

Anticipated Award Date: September 1, 2005.

Budget Period Length: 12 months.

Project Period Length: Two years with a possibility for five years total. (An initial two-year project period is specified with the anticipation of an additional three years with years 3, 4, and 5 contingent on the accomplishment of very specific outcomes in years 1 and 2)

Milestones and success necessary to continue into Years 3, 4, and 5

• The awardee has identified key stakeholders and has established a national youth violence prevention consortium.

• The awardee is supporting the activities of a consortium including establishment of operating and administrative guidelines and principles (e. g. by-laws, goals and objectives, etc).

• The awardee has completed, in conjunction with the consortium, a review of existing city assessments and has facilitated making recommendations for steps to address gaps in youth violence prevention,

• The awardee has prepared a report summarizing the findings, identifying gaps and needs and highlighting recommendations from the consortium.

• The awardee has developed a frame, using methodologically valid approaches approved by CDC, to build support for and to address youth violence prevention within U.S. cities.

• The awardee has developed an evaluation plan that collects the baseline and follow-up data necessary to assess the impact of the frame.

Throughout the project period, CDC's commitment to continuation of awards will also be conditioned on the availability of funds, and the determination that continued funding is in the best interest of the Federal Government.

III. Eligibility Information

III.1. Eligible Applicants

Applications may be submitted by public and private organizations that have the expertise, experience and capacity to develop and implement programs to prevent youth violence at the national level. Organizations, such as:

• Public nonprofit organizations.

• Private nonprofit organizations.

• For profit organizations.

• Small, minority, women-owned businesses.

• Universities.

• Colleges.

• Research institutions.

• Hospitals.

• Community-based organizations.

• Faith-based organizations.

• Federally recognized Indian tribal governments.

• Indian tribes.

• Indian tribal organizations.

• State and local governments or their Bona Fide Agents (this includes the District of Columbia, the Commonwealth of Puerto Rico, The Virgin Islands, the Commonwealth of the Northern Mariana Islands, American Samoa, Guam, the Federated States of Micronesia, the Republic of the Marshall Islands and the Republic of Palau).

• Political subdivisions of States (in consultation with states).

A Bona Fide Agent is an agency/organization identified by the state as eligible to submit an application under the state eligibility in lieu of a state application. If you are applying as a bona fide agent of a state or local government, you must provide a letter from the state or local government as documentation of your status. Place this documentation behind the first page of your application form.

III.2. Cost Sharing or Matching

Matching funds are not required for this program.

III.3. Other

If you request a funding amount greater than the ceiling of the award range, your application will be considered non-responsive, and will not be entered into the review process. You will be notified that your application did not meet the submission requirements.

Special Requirements

If your application is incomplete or non-responsive to the special requirements listed in this section, it will not be entered into the review process. You will be notified that your application did not meet submission requirements.

• Late applications will be considered non-responsive. See section “IV.3. Submission Dates and Times” for more information on deadlines.

• Note: Title 2 of the United States Code Section 1611 states that an organization described in Section 501(c)(4) of the Internal Revenue Code that engages in lobbying activities is not eligible to receive Federal funds constituting an award, grant, or loan.

IV. Application and Submission Information

IV. 1. Address to Request Application Package

To apply for this funding opportunity use application form PHS 5161-1.

Electronic Submission

CDC strongly encourages you to submit your application electronically by utilizing the forms and instructions posted for this announcement on www.Grants.gov, the official Federal agency wide E-grant Web site. Only applicants who apply online are permitted to forego paper copy submission of all application forms.

Paper Submission

Application forms and instructions are available on the CDC web site, at the following Internet address: http://www.cdc.gov/od/pgo/forminfo.htm.

If you do not have access to the Internet, or if you have difficulty accessing the forms on-line, you may contact the CDC Procurement and Grants Office Technical Information Management Section (PGO-TIM) staff at: 770-488-2700. Application forms can be mailed to you.

IV.2. Content and Form of Submission

Letter of Intent (LOI)

Your LOI must be written in the following format:

• Maximum number of pages: Two.

• Font size: 12-point unreduced.

• Paper size: 8.5 by 11 inches.

• Single spaced.

• Page margin size: One inch.

• Printed only on one side of page.

• Written in plain language, avoid jargon.

Your LOI must contain the following information:

• Number and title of this Program Announcement.

• Brief description of your organization including the component(s) of youth violence prevention that your organization addresses.

• Organizational structure and reach.

Application

Electronic Submission

You may submit your application electronically at: www.grants.gov. Applications completed online through Grants.gov are considered formally submitted when the applicant organization's Authorizing Official electronically submits the application to www.grants.gov. Electronic applications will be considered as having met the deadline if the application has been submitted electronically by the applicant organization's Authorizing Official to Grants.gov on or before the deadline date and time.

It is strongly recommended that you submit your grant application using Microsoft Office products (e.g., Microsoft Word, Microsoft Excel, etc.). If you do not have access to Microsoft Office products, you may submit a PDF file. Directions for creating PDF files can be found on the Grants.gov Web site. Use of file formats other than Microsoft Office or PDF may result in your file being unreadable by our staff.

CDC recommends that you submit your application to Grants.gov early enough to resolve any unanticipated difficulties prior to the deadline. You may also submit a back-up paper submission of your application. Any such paper submission must be received in accordance with the requirements for timely submission detailed in Section IV.3. of the grant announcement. The paper submission must be clearly marked: “BACK-UP FOR ELECTRONIC SUBMISSION.” The paper submission must conform with all requirements for non-electronic submissions. If both electronic and back-up paper submissions are received by the deadline, the electronic version will be considered the official submission.

Paper Submission

If you plan to submit your application by hard copy, submit the original and two hard copies of your application by mail or express delivery service. Refer to section IV.6. Other Submission Requirements for submission address.

You must submit a project narrative with your application forms. The narrative must be submitted in the following format:

• Maximum number of pages: 30 If your narrative exceeds the page limit, only the first pages which are within the page limit will be reviewed.

• Font size: 12 point unreduced.

• Spacing: Double spaced.

• Paper size: 8.5 by 11 inches.

• Page margin size: One inch.

• Printed only on one side of page.

• Held together only by rubber bands or metal clips; not bound in any other way.

Your narrative should address activities to be conducted over the entire project period and must include the following items in the order listed here:

• Abstract (one-page summary of the application that includes a description of applicant's plan for participating in this cooperative agreement).

• Relevant Experience (framing violence as a public health issue, strategic planning, national level awareness campaigns and coalition building, dissemination that has resulted in widespread adoption of youth violence prevention principles, practices, concepts and research).

• Work plan (including time phased, measurable objectives; methods or strategies; timelines; logic models and staffing plan).

• Capacity and Staffing (a minimum of one, 100 percent, fulltime, program director position is required).

• Collaboration.

• Measures of Effectiveness.

• Budget justification (does not count towards page limit).

Additional information may be included in the application appendices. The appendices will not be counted toward the narrative page limit. This additional information includes:

• Proof of eligibility.

• Curriculum Vitas or Resumes.

• Organizational Charts.

• Letters of Support.

You are required to have a Dun and Bradstreet Data Universal Numbering System (DUNS) number to apply for a grant or cooperative agreement from the Federal government. The DUNS number is a nine-digit identification number, which uniquely identifies business entities. Obtaining a DUNS number is easy and there is no charge. To obtain a DUNS number, access www.dunandbradstreet.com or call 1-866-705-5711.

For more information, see the CDC Web site at: http://www.cdc. gov/od/pgo/funding/pubcommt.htm.

If your application form does not have a DUNS number field, please write your DUNS number at the top of the first page of your application and/or include your DUNS number in your application cover letter.

Additional requirements that may require you to submit additional documentation with your application are listed in section “VI.2. Administrative and National Policy Requirements.”

IV.3. Submission Dates and Times

LOI Deadline Date: April 1, 2005.

CDC requests that you send a LOI if you intend to apply for this program. Although the LOI is not required, not binding and does not enter into the review of your subsequent application, the LOI will be used to gauge the level of interest in this program and to allow CDC to plan the application review.

Application Deadline Date: May 2, 2005.

Explanation of Deadlines: LOIs and Applications must be received in the CDC Procurement and Grants Office by 4 p.m. Eastern Time on the deadline date. If you submit your LOI or application by the United States Postal Service or commercial delivery service, you must ensure that the carrier will be able to guarantee delivery by the closing date and time. If CDC receives your submission after closing due to: (1) carrier error, when the carrier accepted the package with a guarantee for delivery by the closing date and time, or (2) significant weather delays or natural disasters, you will be given the opportunity to submit documentation of the carriers guarantee.

If the documentation verifies a carrier problem, CDC will consider the submission as having been received by the deadline.

This announcement is the definitive guide on LOI and application content, submission address and deadline. It supersedes information provided in the application instructions. If your submission does not meet the deadline above, it will not be eligible for review and will be discarded. You will be notified that you did not meet the submission requirements.

Electronic Submission

If you submit your application electronically with Grants.gov, your application will be electronically time/date stamped which will serve as receipt of submission. In turn, you will receive an e-mail notice of receipt when CDC receives the application. All electronic applications must be submitted by 4 p.m. Eastern Time on the application due date.

Paper Submission

CDC will not notify you upon receipt of your paper submission. If you have a question about the receipt of your LOI or application, first contact your courier. If you still have a question, contact the PGO-TIM staff at: 770-488-2700. Before calling, please wait two to three days after the submission deadline. This will allow time for submissions to be processed and logged.

IV.4. Intergovernmental Review of Applications

Executive Order 12372 does not apply to this program.

IV.5. Funding Restrictions

Restrictions, which must be taken into account while writing your budget, are as follows:

• Funds for this project cannot be used for construction, renovation, the lease of passenger vehicles, the development of major software applications, or supplanting current applicant expenditures.

• Funds may not be used for reimbursement of pre-award costs.

• The applicant must perform a substantial portion of the program activities and cannot serve merely as a fiduciary agent. Applications requesting funds to support only managerial and administrative functions will not be accepted.

• Budgets for the first year should include travel costs for two cooperative agreement staff to attend two 2-day planning meetings in Atlanta with CDC staff and/or other cooperative agreement recipients.

• The use of program funds for the development and production of curriculum is prohibited without explicit approval.

If you are requesting indirect costs in your budget, you must include a copy of your indirect cost rate agreement. If your indirect cost rate is a provisional rate, the agreement should be less than 12 months of age.

Guidance for completing your budget can be found on the CDC web site, at the following Internet address: http://www.cdc. gov/od/pgo/funding/budgetguide. htm.

IV.6. Other Submission Requirements

LOI Submission Address: Submit your LOI by express mail, delivery service, fax, or E-mail to: Neil Rainford, Project Officer, CDC, National Center for Injury Prevention and Control, 2939 Flowers Road South, Atlanta, GA 30341, Telephone Number: 770-488-1122, Fax Number: 770-488-1360, E-mail: NRainford@cdc. gov.

Application Submission Address

Electronic Submission

CDC strongly encourages applicants to submit electronically at: www.Grants.gov. You will be able to download a copy of the application package from www.Grants.gov, complete it offline, and then upload and submit the application via the Grants.gov site. E-mail submissions will not be accepted. If you are having technical difficulties in Grants.gov they can be reached by E-mail at www.support@grants.gov or by phone at 1-800-518-4726 (1-800-518-GRANTS). The Customer Support Center is open from 7 a.m. to 9 p.m. Eastern Time, Monday through Friday.

Paper Submission

If you chose to submit a paper application, submit the original and two hard copies of your application by mail or express delivery service to: Technical Information Management-RFA 05042, CDC Procurement and Grants Office, 2920 Brandywine Road, Atlanta, GA 30341.

V. Application Review Information

V.1. Criteria

Applicants are required to provide measures of effectiveness that will demonstrate the accomplishment of the various identified objectives of the cooperative agreement. Measures of effectiveness must relate to the performance goals stated in the “Purpose” section of this announcement. Measures must be objective and quantitative and must measure the intended outcome. These measures of effectiveness must be submitted with the application and will be an element of evaluation.

Your application will be evaluated against the following criteria:

Work Plan (30 points)

1. Does the applicant include a detailed work plan, including a time-line, logic model(s) and staffing plan?

2. Does the work plan include goals and objectives that are SMART (specific, measurable, attainable, realistic and time-phased)?

3. Does the applicant's work plan consider and highlight a ecological approach?

4. Does the applicant's work plan outline successful ways to involve the youth violence prevention consortium, key stakeholders in youth violence prevention and the National Youth Violence Prevention Resource Center?

5. Does the applicant's work plan outline outstanding processes for establishing an evidence based frame that assures the delivery of credible, evidence based information in understandable and effective formats consistent with the needs of the target audiences?

6. Does the work plan include superior methods and evidence based strategies that meet goals and objectives as well as address how it will engage and mobilize key stakeholders including policy makers, public health officials and/or city affiliated organizations?

7. Does the applicant's work plan include a superior evaluation to monitor outcomes and impact?

Relevant Experience (25 Points)

1. Does the applicant demonstrate successful experiences in collecting and using evidence based youth violence prevention assessment data?

2. Does the applicant have appropriate experience using relevant data and research to determine priorities and a frame for youth violence prevention?

3. Does the applicant demonstrate a minimum of three years experience coordinating, collaborating, and mobilizing national and affiliated city partners with regard to violence prevention or a component of violence prevention?

4. Does the applicant demonstrate effective experience interacting with key stakeholders to provide leadership, support and facilitate the sharing of information across a network of youth violence prevention coalitions?

5. Does the applicant demonstrate outstanding experience developing strategic plans?

6. Does he applicant demonstrate exceptional experience in establishing and managing advisory boards or consortiums with participants from a variety of sectors?

7. Does the applicant demonstrate outstanding experience in compiling, synthesizing and disseminating youth violence prevention information and evaluation findings through a variety of mediums to key stakeholders, including policy makers, the non-profit sector, public health officials and/or local/city organizations?

8. Does the applicant demonstrate outstanding ability to coordinate and disseminate youth violence prevention principles, practices, concepts and research?

9. Has the applicant demonstrated that these dissemination efforts resulted in the successful and widespread adoption of youth violence prevention, practices, concepts and research?

10. Does the applicant demonstrate outstanding ability to frame violence as a public health issue and use that frame to engage key stakeholders including policy makers, the non-profit sector, public health officials and/or local/city organizations?

11. Does the applicant include the establishment of a youth violence prevention consortium?

Collaboration (25 points)

1. Does the applicant describe lucrative strategies to develop and maintain a national youth violence prevention consortium?

2. Does the applicant successfully describe how it will avoid duplication of other youth violence prevention efforts?

3. Does the applicant demonstrate a willingness to collaborate with CDC, the National Youth Violence Prevention Resource Center and other CDC funded organizations?

4. Does the applicant include letters of support and/or memoranda of agreement from organizations, research and/or academic experts/institutions and other agencies and organizations, including public health agencies and organizations that work with youth and/or violence prevention?

5. Does the applicant provide high-quality descriptions of the composition, role and involvement of consortium members that represent a broad range of disciplines and levels of influence that work in the area of violence prevention including public health?

Capacity and Staffing (20 points)

1. Does the applicant demonstrate relevant, existing capacity and infrastructure to carry out the required activities in the cooperative agreement?

2. Does the applicant include and outline the role of one, 100percent, fulltime, program director with relevant experience?

3. Does the applicant clearly describe all project staff and their relevant skills/expertise for their assigned position? Does the applicant include an organizational chart?

4. Are the applicant's past and current training and assistance experiences, knowledge and expertise documented, lucrative, and relevant?

5. Does the applicant successfully demonstrate a capacity to develop a consortium by providing training and technical assistance for the purpose of promoting public health initiatives?

6. Does the applicant successfully demonstrate the ability and highlight relevant connections to successfully identify, modify, promote and distribute the youth violence prevention campaign and strategic plan to private foundations, media, policy makers and public health entities/organizations?

Measures of Effectiveness (not scored)

1. Does the applicant provide lucrative objective/quantifiable measures regarding the intended outcomes that will demonstrate the accomplishment of the various identified objectives of the cooperative agreement?

2. Does the evaluation demonstrate how the goals and objectives will successfully increase the capacity of injury prevention and control programs to address the prevention of injuries and violence?

Budget Justification (not scored)

1. Does the applicant provide a detailed budget with complete line-item justification of all proposed costs consistent with the stated activities in the program announcement? Details must include a breakdown in the categories of personnel (with time allocations for each), staff travel, communications and postage, equipment, supplies and any other costs? Does the budget projection include a narrative justification for all requested costs? Any sources of additional funding beyond the amount stipulated in this cooperative agreement should be indicated, including donated time or services. For each expense category, the budget should indicate CDC share, the applicant share and any other support. These funds should not be used to supplant existing efforts.

V.2. Review and Selection Process

Applications will be reviewed for completeness by the Procurement and Grants Office (PGO) staff and for responsiveness by NCIPC. Incomplete applications and applications that are non-responsive to the eligibility criteria will not advance through the review process. Applicants will be notified that their application did not meet submission requirements.

An objective review panel will evaluate complete and responsive applications according to the criteria listed in the “V.1. Criteria” section above.

CDC will provide justification for any decision to fund out of rank order.

VI. Award Administration Information

VI.1. Award Notices

Successful applicants will receive a Notice of Award (NOA) from the CDC Procurement and Grants Office. The NOA shall be the only binding, authorizing document between the recipient and CDC. The NOA will be signed by an authorized Grants Management Officer and mailed to the recipient fiscal officer identified in the application.

Unsuccessful applicants will receive notification of the results of the application review by mail.

VI.2. Administrative and National Policy Requirements

45 CFR Part 74 and Part 92

For more information on the Code of Federal Regulations, see the National Archives and Records Administration at the following Internet address: http://www.access.gpo.gov/nara/cfr/cfr-table-search. html.

An additional Certifications form from the PHS5161-1 application needs to be included in your Grants.gov electronic submission only. Refer to http://www.cdc. gov/od/pgo/funding/PHS5161-1-Certificates.pdf. Once the form is filled out attach it to your Grants.gov submission as Other Attachments Form.

The following additional requirements apply to this project:

AR-9 Paperwork Reduction Act Requirements

AR-10 Smoke-Free Workplace Requirements

AR-11 Healthy People 2010

AR-12 Lobbying Restrictions

AR-13 Prohibition on Use of CDC Funds for Certain Gun Control Activities

AR-15 Proof of Non-Profit Status

Additional information on these requirements can be found on the CDC web site at the following Internet address: http://www.cdc. gov/od/pgo/funding/ARs.htm.

VI.3. Reporting Requirements

You must provide CDC with an original, plus two hard copies of the following reports:

1. Interim progress report, due no less than 90 days before the end of the budget period. The progress report will serve as your non-competing continuation application and must contain the following elements:

a. Current Budget Period Activities Objectives.

b. Current Budget Period Financial Progress.

c. New Budget Period Program Proposed Activity Objectives.

d. Budget.

e. Measures of Effectiveness.

f. Additional Requested Information.

2. Financial status report is due no more than 90 days after the end of the budget period.

3. Final financial and performance reports are due no more than 90 days after the end of the project period.

These reports must be mailed to the Grants Management Specialist listed in the “Agency Contacts” section of this announcement.

VII. Agency Contacts

We encourage inquiries concerning this announcement.

For general questions, contact: Technical Information Management Section, CDC Procurement and Grants Office, 2920 Brandywine Road, Atlanta, GA 30341, Telephone: 770-488-2700.

For program technical assistance, contact: Neil Rainford, Project Officer, National Center for Injury Prevention and Control, 2939 Flowers Road South, Atlanta, GA 30341, Telephone Number: 770-488-1122, Fax Number: 770-488-1360, E-mail: NRainford@cdc. gov.

For financial, grants management, or budget assistance, contact: James Masone, Grants Management Specialist, CDC Procurement and Grants Office, 2920 Brandywine Road, Atlanta, GA 30341, Telephone: 770-488-2736, E-mail: Zft2@cdc. gov.

VIII. Other Information

This and other CDC funding opportunity announcements can be found on the CDC Web site, Internet address: http://www.cdc. gov. Click on “Funding” then “Grants and Cooperative Agreements.”

Dated: February 23, 2005.
William P. Nichols,
Director, Procurement and Grants Office, Centers for Disease Control and Prevention.

[FR Doc. 05-3981 Filed 3-1-05; 8:45 am]

BILLING CODE 4163-18-P